DEPARTMENT OF AGRICULTURE

Animal and Plant Health Inspection Service

[Docket No. APHIS-2008-0001]

Notice of Availability of a Risk Analysis for the Foot-and-Mouth Disease Status of the Republic of South Africa

AGENCY: Animal and Plant Health Inspection Service, USDA.

ACTION: Notice.

SUMMARY: We are advising the public that a risk analysis has been prepared by the Animal and Plant Health Inspection Service concerning the foot-and-mouth disease status of the Republic of South Africa and the related disease risks associated with importing animals and animal products into the United States from the Republic of South Africa. This risk analysis will be used as a basis for determining whether to relieve certain prohibitions and restrictions on the importation of ruminants and swine and the fresh meat and other animal products of ruminants and swine into the United States from the Republic of South Africa. We are making this risk analysis available to the public for review and comment.

DATES: We will consider all comments we receive on or before April 15, 2008.

ADDRESSES: You may submit comments by either of the following methods:

• Federal eRulemaking Portal: Go to http://www.regulations.gov/fdmspublic/component/main?main=DocketDetail&d=APHIS-2008-0001 to submit or view comments and to view supporting and related materials available electronically.

• Postal Mail/Commercial Delivery: Please send two copies of your comment to Docket No. APHIS-2008-0001, Regulatory Analysis and Development, PPD, APHIS, Station 3A-03.8, 4700 River Road Unit 118, Riverdale, MD 20737-1238. Please state that your comment refers to Docket No. APHIS-2008-0001.

Reading Room: You may read any comments that we receive on the risk analysis in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Mr. Javier Vargas, Animal Scientist, Regionalization Evaluation Services Staff, National Center for Import and Export, VS, APHIS, 4700 River Road Unit 38, Riverdale, MD 20737-1231; (301) 734-0756.

SUPPLEMENTARY INFORMATION: The regulations in 9 CFR part 94 (referred to below as the regulations) govern the importation of certain animals and animal products into the United States in order to prevent the introduction of various animal diseases, including rinderpest and foot-and-mouth disease (FMD). These are dangerous and destructive communicable diseases of ruminants and swine. Section 94.1 of the regulations lists regions of the world that are considered free of rinderpest and FMD. Section 94.11 lists regions of the world considered free of rinderpest and FMD but from which the importation of meat and other animal products into the United States is subject to additional restrictions because of those regions' proximity to or trading relationships with FMD-affected regions.

In an interim rule effective November 6, 2000, and published in the Federal Register on February 9, 2001 (66 FR 9641-9643, Docket No. 00-122-1), we amended the regulations by removing the Republic of South Africa from the list of regions considered to be free of rinderpest and FMD. We also removed the Republic of South Africa from the list of regions in § 94.11 that are considered to be free of these diseases, but are subject to certain restrictions because of their proximity to or trading relationships with rinderpest- or FMD-affected regions. These actions were necessary because FMD had been confirmed in two provinces in the Republic of South Africa. The effect of the interim rule was to prohibit or restrict the importation of ruminants and swine and the fresh meat and other animal products of ruminants and swine into the United States from the Republic of South Africa.

Although we removed the Republic of South Africa from the list of regions considered to be free of rinderpest and FMD, we recognized that the Republic of South Africa's National Department of Agriculture responded immediately to the detection of the disease by imposing restrictions on the movement of ruminants, swine, and ruminant and swine products from the affected areas and by initiating measures to eradicate the disease. We stated that we intended to reassess the situation in the region at a future date in accordance with Office International des Epizooties (OIE) standards. We solicited comments concerning our interim rule ending April 10, 2001; we received no comments by that date.

In this notice, we are announcing the availability for review and comment of a document entitled “Evaluation of the Foot-and-Mouth Disease Status of the Republic of South Africa” (October 2007). This risk analysis assesses the FMD status of the Republic of South Africa and the related disease risks associated with importing animals and animal products into the United States from the Republic of South Africa. This risk analysis will be considered as part of our decisionmaking process regarding whether to relieve certain prohibitions and restrictions on the importation of ruminants and swine and the fresh meat and other animal products of ruminants and swine into the United States from the Republic of South Africa. The importation of live swine and certain swine products would continue to be restricted because the Republic of South Africa has not been evaluated by APHIS for African swine fever, classical swine fever, and swine vesicular disease. We are making the risk analysis available for public comment for 60 days.

The risk analysis may be viewed on the Regulations.gov Web site or in our reading room (see ADDRESSES above for a link to Regulations.gov and information on the location and hours of the reading room). You may request paper copies of the risk analysis by calling or writing to the person listed under FOR FURTHER INFORMATION CONTACT. Please refer to the title of the risk analysis when requesting copies.

Authority: 7 U.S.C. 450, 7701-7772, 7781-7786, and 8301-8317; 21 U.S.C. 136 and 136a; 31 U.S.C. 9701; 7 CFR 2.22, 2.80, and 371.4.

Done in Washington, DC, this 11th day of February 2008.
Kevin Shea,
Acting Administrator, Animal and Plant Health Inspection Service.

[FR Doc. E8-2912 Filed 2-14-08; 8:45 am]

BILLING CODE 3410-34-P